DEPARTMENT OF THE INTERIOR

National Park Service

Notice of Year-Round Closure at Fort Funston, Golden Gate National Recreation Area

DATE: December 21, 2000.

ACTION: Notice of closure.

SUMMARY: In accordance with the resource protection mandate of the National Park Service (NPS), the Golden Gate National Recreation Area, NPS, is announcing its decision to close year-round approximately 12 acres of Fort Funston to off-trail recreational use by the public. The closure is located in the northwest portion of Fort Funston. This closure is necessary to protect habitat for the California threatened bank swallows (Riparia riparia), enhance significant native plant communities, improve public safety and reduce human-induced impacts to the coastal bluffs and dunes, a significant geological feature.

Background: Consistent with section 1.5 of Title 36 of the Code of Federal Regulations, authorizing the Superintendent to effect closures and public use permits within a national park unit, the proposed 12-acre year-round closure and solicitation of comments was noticed by publication in the Federal Register on July 18, 2000 (65 FR 44546). Details of the proposed closure were made available to the public in the form of a public document entitled “Proposed Habitat Protection Closure, Fort Funston, Golden Gate National Recreation Area,” as stated in the Federal Register on July 18, 2000 (65 FR 44546). The public comment period closed on October 6, 2000. The public provided approximately 1,500 comments on the proposed closure. Upon consideration of the public comments, and the recommendations of the Golden Gate National Recreation Area Advisory Commission, NPS has determined that the proposed year-round 12-acre closure is the least restrictive means to meet the four goals and objectives for the project and that the project will be implemented as described in the document entitled, “Proposed Habitat Protection Closure, Fort Funston, Golden Gate National Recreation Area.”

Reference: Public Law 92-589 of October 27, 1972, as amended, as codified in Title 16 United States Code Sections 460bb through 460bb-5. Title 16 United States Code Sections 1 and 1a-1. Title 36 Code of Federal Regulations sections 1.5, 1.7, 2.1, and 2.15. Ft. Funston Dog Walkers v. Babbitt, No. C00-00877 WHA, N.D. Cal., Preliminary Injunction, May 16, 2000.

FOR FURTHER INFORMATION CONTACT: Rich Weideman, Office of Public Affairs, Golden Gate National Recreation Area at 415-561-4730.

Dated: December 21, 2000.
George Turnbull,
Acting General Superintendent, Golden Gate National Recreation Area.

[FR Doc. 01-187 Filed 1-3-01; 8:45 am]

BILLING CODE 4310-70-P